POSTAL REGULATORY COMMISSION

39 CFR Part 3001

[Docket No. RM2016-6]

Procedures Related to Motions

AGENCY: Postal Regulatory Commission.

ACTION: Notice of proposed rulemaking; reopening of comment period.

SUMMARY: The Commission is noticing the reopening of the comment period on a proposed rulemaking. This document informs the public of the docket's reinstatement, invites public comment, and takes other administrative steps.

DATES: The comment period for the proposed rulemaking published on February 1, 2016 (81 FR 5085) is reopened. Comments are due on or before September 2, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On February 23, 2016, the Commission granted the Postal Service's motion to suspend proceedings in the above-captioned docket.¹ The Commission held the rulemaking in abeyance pending its resolution of the Postal Service's motion for reconsideration of Order No. 3047. Order No. 3096 at 1. On July 20, 2016, the Commission issued an order resolving the Postal Service's motion for reconsideration.² Accordingly, the Commission reinstates the rulemaking in the above-captioned docket and sets a new comment deadline.

¹ Order Holding Rulemaking in Abeyance, February 23, 2016 (Order No. 3096).

² Docket No. R2013-10R, Order No. 3441, Order Resolving Motion for Reconsideration of Commission Order No. 3047, July 20, 2016.

Interested persons are invited to provide written comments in response to the Notice of Proposed Rulemaking.³ Comments are due no later than 30 days after the date of publication of this document in the Federal Register. All comments and suggestions received will be available for review on the Commission's Web site, http://www.prc.gov.

³ See Notice of Proposed Rulemaking on Motions Concerning Mail Preparation Changes, January 22, 2016 (Order No. 3048); 81 FR 5085 (February 1, 2016) (Procedures Related to Motions).

As indicated in Order No. 3048, the Commission will accommodate motions concerning mail preparation changes under the Commission's general motion rules until more specific rules can be implemented under the present rulemaking. See Order No. 3048 at 2-3. This rulemaking proposes a procedure to allow the Postal Service to implement mail preparation changes with limited disruption by setting “a reasonable but definite timeframe by which interested parties may challenge a mail preparation change.” ⁴ Therefore, the Commission reinstates Docket No. RM2016-6, and intends to complete the rulemaking process without further delay.

⁴ Order No. 3048 at 4; Procedures Related to Motions at 5086.

IT IS ORDERED:

1. The rulemaking in Docket No. RM2016-6 is reinstated.

2. Interested persons may submit comments no later than 30 days from the date of the publication of this notice in the Federal Register.

3. The Secretary shall arrange for publication of this document in the Federal Register.

By the Commission.
Stacy L. Ruble,
Secretary.

[FR Doc. 2016-18170 Filed 8-2-16; 8:45 am]

BILLING CODE 7710-FW-P